DEPARTMENT OF COMMERCE

Foreign-Trade Zones Board

[Docket 31-2002]

Foreign-Trade Zone 86—Tacoma, Washington: Expansion of Manufacturing Authority—Subzone 86E; Matsushita Kotobuki Electronics Industries of America, Inc. (20- and 27-inch Television/Video Cassette Recorder/DVD Combination Units)

An application has been submitted to the Foreign-Trade Zones Board (the Board) by the Port of Tacoma, Washington, grantee of FTZ 86, requesting on behalf of Matsushita Kotobuki Electronics Industries of America, Inc. (MKA), to expand the scope of manufacturing authority under zone procedures within Subzone 86E, at the MKA facilities in Vancouver, Washington. The application was submitted pursuant to the Foreign-Trade Zones Act, as amended (19 U.S.C. 81a-81u), and the regulations of the Board (15 CFR part 400). It was formally filed on August 12, 2002.

Subzone 86E was approved by the Board in 2000 at four sites in Vancouver, Washington (five buildings and two trailers, 427,300 sq. ft. total). Authority was granted for the manufacture of 9- and 13-inch television/video cassette recorder/DVD combination units (Board Order 1176, 66 FR 32933, 6/19/2001).

MKA is now proposing to expand the scope of manufacturing activity conducted under zone procedures at Subzone 86E to include 20-inch flat and round screen television/video cassette recorder/DVD combination units and 27-inch flat screen television/video cassette recorder/DVD combination units. The finished products would have duty rates of 3.9% ad valorem. Additional foreign-sourced materials under the proposed expanded scope would include 20-inch flat cathode ray tubes, 20-inch round cathode ray tubes, and 27-inch flat cathode ray tubes. Duty rates on those components are currently 15% ad valorem.

Expanded subzone authority would exempt MKA from Customs duty payments on the aforementioned foreign components when used in export production. On its domestic sales, MKA would be able to choose the lower duty rate that applies to the finished products for the foreign components, when applicable.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th St. NW., Washington, DC 20005; or

2. Submissions via the U.S. Postal Service: Foreign-Trade-Zones Board, U.S. Department of Commerce, FCB—Suite 4100W, 1401 Constitution Ave. NW., Washington, DC 20230.

The closing period for their receipt is October 21, 2002. Rebuttal comments in response to material submitted during the foregoing period may be submitted during the subsequent 15-day period to November 4, 2002. A copy of the application and accompanying exhibits will be available for public inspection at the Office of the Foreign-Trade Zones Board's Executive Secretary at address Number 1 listed above, and at the U.S. Department of Commerce Export Assistance Center, One World Trade Center, 121 SW Salmon Street, Suite 242, Portland, OR 97204.

Dated: August 13, 2002.
Dennis Puccinelli,
Executive Secretary.

[FR Doc. 02-21327 Filed 8-20-02; 8:45 am]

BILLING CODE 3510-DS-P